DEPARTMENT OF TRANSPORTATION

Federal Aviation Administration

14 CFR Part 39

[Docket No. 99-CE-63-AD]

RIN 2120-AA64

Airworthiness Directives; Raytheon Aircraft Company Beech Models 35-C33A, E33A, E33C, F33A, F33C, S35, V35, V35A, V35B, 36, and A36 Airplanes

AGENCY: Federal Aviation Administration, DOT.

ACTION: Notice of proposed rulemaking (NPRM).

SUMMARY: This document proposes to adopt a new airworthiness directive (AD) that would apply to all Raytheon Aircraft Company (Raytheon) Beech Models 35-C33A, E33A, E33C, F33A, F33C, S35, V35, V35A, V35B, 36, and A36 airplanes that incorporate a certain Teledyne Continental engine configuration. The proposed AD would require you to repetitively replace the existing Aeroquip V-band exhaust clamp. The actions specified by the proposed AD are intended to prevent the exhaust stack from detaching from the turbocharger due to failure of the V-band exhaust clamp. Clamp failure could result in the release of high temperature gases inside the engine compartment with a consequent fire in the engine compartment.

DATES: The Federal Aviation Administration (FAA) must receive any comments on this rule on or before December 11, 2000.

ADDRESSES: Submit comments in triplicate to the FAA, Central Region, Office of the Regional Counsel, Attention: Rules Docket No. 99-CE-63-AD, 901 Locust, Room 506, Kansas City, Missouri 64106. Comments may be inspected at this location between 8 a.m. and 4 p.m., Monday through Friday, holidays excepted.

You may get the service information referenced in the proposed AD from Tornado Alley Turbo, Inc., 300 Airport Road, Ada, Oklahoma 74820; telephone: toll free 1-800-FLY-GAMI, or (580) 332-3510; facsimile: (580) 332-4577. You may examine this information at the Rules Docket at the address above.

FOR FURTHER INFORMATION CONTACT: Mr. Peter W. Hakala, Aerospace Engineer, FAA, Rotorcraft Directorate, Special Certification Office, 2601 Meacham Blvd., Fort Worth, Texas 76193-0190; telephone: (817) 222-5145; facsimile: (817) 222-5785.

SUPPLEMENTARY INFORMATION:

Comments Invited

How do I Comment on the Proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are There any Specific Portions of the AD I Should pay Attention to?

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be Sure FAA Receives my Comment?

If you want us to acknowledge the receipt of your comments, you must include a self-addressed, stamped postcard. On the postcard, write “Comments to Docket No. 99-CE-63-AD.” We will date stamp and mail the postcard back to you.

Discussion

What Events Have Caused This Proposed AD?

The FAA has received reports of two instances where an Aeroquip V-band exhaust clamp (Aeroquip part number (P/N) 00624-4404C375-M) failed on Raytheon Models Beech A36 airplanes. This V-band exhaust clamp is part of the installation configuration of Tornado Alley Turbo, Inc. Supplemental Type Certificate (STC) SA5223NM and STC SE5222NM. The incorporation of these STC's installs a Teledyne Continental engine equipped with a turbonormalizing system on Raytheon Beech Models 35-C33A, E33A, E33C, F33A, F33C, S35, V35, V35A, V35B, 36, and A36 airplanes. The V-band exhaust clamp, P/N 00624-4404C375-M, attaches the exhaust stack to the turbocharger.

What are the Consequences if the Condition is not Corrected?

The exhaust stack detaching from the turbocharger could result in the release of high temperature gases inside the engine compartment with a consequent fire in the engine compartment.

Relevant Service Information

Is There Service Information That Applies to this Subject?

The STC holder, Tornado Alley Turbo, Inc., has issued Mandatory Service Bulletin Number TAT 98-1, dated November 21, 1998.

What are the Provisions of This Service Bulletin?

The service bulletin includes procedures for inspecting the Aeroquip V-band exhaust clamp (Aeroquip P/N 00624-4404C375-M) for cracks.

Replacement instructions are included in the Turbo-Flite™ 520/550 System Maintenance and Troubleshooting manual.

The FAA's Determination and an Explanation of the Provisions of the Proposed AD

What has FAA Decided?

After examining the circumstances and reviewing all available information related to the incidents described above, we have determined that:

—the unsafe condition referenced in this document exists or could develop on other Raytheon Beech Models 35-C33A, E33A, E33C, F33A, F33C, S35, V35, V35A, V35B, 36, and A36 airplanes of the same type design that incorporate STC SA5223NM and STC SE5222NM;

—the affected V-band exhaust clamp should be replaced at each 400 hours time-in-service (TIS) instead of relying on repetitive inspections to detect problems; and

—AD action should be taken in order to correct this unsafe condition.

What Would this Proposed AD Require?

This proposed AD requires you to repetitively replace the V-band exhaust clamp, Aeroquip P/N 00624-4404C375-M.

Could the Affected V-band Clamp be Installed on Other Type Design Airplanes?

Cessna 185 series airplanes could have the subject clamp installed through the incorporation of Tornado Alley Turbo, Inc. STC SE00214DE and STC SE002215DE. The FAA has determined that the cracks at the weld spots in these V-band clamps are occurring because of the specific configuration of the affected Raytheon airplanes. We have received no reports of service problems with the affected V-band clamps installed on Cessna 185 series airplanes.

Cost Impact

How many airplanes would this proposed AD impact?

We estimate that the proposed AD would affect 180 airplanes in the U.S. registry.

What Would be the Cost Impact of Each Proposed Repetitive Replacement for the Affected Airplanes on the U.S. Register?

We estimate that it would take approximately 2 workhours per airplane to accomplish each proposed repetitive replacement, at an average labor rate of $60 an hour. A replacement clamp costs $50. Based on the figures presented above, the total cost impact of each proposed repetitive replacement on U.S. operators is estimated to be $30,600, or $170 per airplane.

Regulatory Impact

Would this Proposed AD Impact Various Entities?

The regulations proposed herein would not have a substantial direct effect on the States, on the relationship between the national government and the States, or on the distribution of power and responsibilities among the various levels of government. Therefore, it is determined that this proposed rule would not have federalism implications under Executive Order 13132.

Would this Proposed AD Involve a Significant Rule or Regulatory Action?

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

PART 39—AIRWORTHINESS DIRECTIVES

§ 39.13 [Amended]

2. FAA amends Section 39.13 by adding a new airworthiness directive (AD) to read as follows:

Raytheon Aircraft Company (The Beech Aircraft Corporation previously was the holder of Type Certificate 3A15): Docket No. 99-CE-63-AD.

(a) What airplanes are affected by this AD? Models Beech 35-C33A, E33A, E33C, F33A, F33C, S35, V35, V35A, V35B, 36, and A36 airplanes, all serial numbers, that:

(1) are certificated in any category;

(2) incorporate a Teledyne Continental engine equipped with a turbonormalizing system; and

(3) have Tornado Alley Turbo, Inc. Supplemental Type Certificate (STC) SA5223NM and STC SE5222NM incorporated.

Note 1: Cessna 185 series airplanes could have the subject clamp installed through the incorporation of Tornado Alley Turbo, Inc. STC SE00214DE and STC SE002215DE. The FAA has determined that the cracks at the weld spots in these V-band clamps are occurring because of the specific configuration of the Raytheon airplanes. We have received no reports of service problems with the affected V-band clamps installed on Cessna 185 series airplanes.

(b) Who must comply with this AD? Anyone who wishes to operate any of the airplanes referenced in paragraph (a) of this AD that are on the U.S. Register must comply with this AD.

(c) What problem does this AD address? The actions required by this AD are intended to prevent the exhaust stack from detaching from the turbocharger due to failure of the V-band exhaust clamp. This could result in the release of high temperature gases inside the engine compartment with a consequent fire in the engine compartment.

(d) What must I do to address this problem? To address this problem, you must accomplish the following actions:

Actions | Compliance times | Procedures
Repetitively replace the V-band exhaust clamp, Aeroquip part number 00624-4404C375-M. | Upon accumulating 400 hours time-in-service (TIS) after incorporating Tornado Alley Turbo, Inc. STC SA5223NM and STC SE5222NM on the airplane or within the next 25 hours TIS after the effective date of this AD, whichever occurs later, and thereafter at intervals not to exceed 400 hours TIS. | Use the procedures in the Turbo-Flite™ 520/550 System Maintenance and Troubleshooting manual.

(e) Can I comply with this AD in any other way? You may use an alternative method of compliance or adjust the compliance time if:

(1) Your alternative method of compliance provides an equivalent level of safety; and

(2) The Manager, Rotorcraft Directorate, Special Certification Office, approves your alternative. Submit your request through an FAA Principal Maintenance Inspector, who may add comments and then send it to the Manager, Rotorcraft Directorate, Special Certification Office, 2601 Meacham Boulevard, Fort Worth, Texas 76193-0190.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Mr. Peter Hakala, Aerospace Engineer, FAA, Rotorcraft Directorate, Special Certification Office, 2601 Meacham Boulevard, Fort Worth, Texas 76193-0190;, telephone: (817) 222-5145; facsimile: (817) 222-5785.

(g) What if I need to fly the airplane to another location to comply with this AD? The FAA can issue a special flight permit under sections 21.197 and 21.199 of the Federal Aviation Regulations (14 CFR 21.197 and 21.199) to operate your airplane to a location where you can accomplish the requirements of this AD.

(1) In order for this permit to be granted, the airplane must pass the push/pull test specified in Tornado Alley Turbo, Inc., Mandatory Service Bulletin Number TAT 98-1, dated November 21, 1998.

(2) Anyone who holds at least a private pilot certificate, as authorized by section 43.7 of the Federal Aviation Regulations (14 CFR 43.7), may accomplish the push/pull test referenced in paragraph (g)(1) of this. You must make an entry into the aircraft records that shows compliance with this portion of the AD, in accordance with section 43.9 of the Federal Aviation Regulations (14 CFR 43.9).

(h) How do I get copies of the documents referenced in this AD? You may obtain copies of the documents referenced in this AD from Tornado Alley Turbo, Inc., 300 Airport Road, Ada, Oklahoma 74820; or may examine this document at FAA, Central Region, Office of the Regional Counsel, 901 Locust, Room 506, Kansas City, Missouri 64106.

Issued in Kansas City, Missouri, on October 11, 2000.
Marvin R. Nuss,
Acting Manager, Small Airplane Directorate, Aircraft Certification Service.

[FR Doc. 00-26712 Filed 10-17-00; 8:45 am]

BILLING CODE 4910-13-P